FEDERAL COMMUNICATIONS COMMISSION

Notice of Public Information Collection(s) Being Reviewed by the Federal Communications Commission, Comments Requested

August 22, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 28, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554, or via the Internet to Judith-B.Herman@fcc.gov.

FOR FURTHER INFORMATION CONTACT: For additional information or copies of the information collection(s), contact Judith B. Herman at 202-418-0214, or via the Internet at Judith-B.Herman@fcc.gov.

SUPPLEMENTARY INFORMATION: OMB Control No.: 3060-1007.

Title: Streamlining and Other Revisions of Part 25 of the Commission's Rules.

Form No.: FCC Form 312, Schedule S.

Type of Review: Revision of a currently approved collection.

Respondents: Business or other for-profit.

Number of Respondents: 180 respondents; 1,001 responses.

Estimated Time Per Response: 2 hours.

Frequency of Response: On occasion, annual and other reporting requirements, and third party disclosure requirement.

Total Annual Burden: 9,746 hours.

Total Annual Cost: $107,194,000.

Needs and Uses: On June 20, 2003, the Commission released a Second Report and Order in IB Docket Nos. 02-34 and 00-248, and a Declaratory Order in IB Docket No. 96-111, FCC 03-128, hereinafter referred to as the “Fleet Management Order.” The Fleet Management Order adopts a procedure that will give operators the flexibility to operate satellites in their fleets at any one of their orbit locations assigned to their fleet without individual prior Commission approval. In addition, the Order adopts a rule that permits receive-only earth stations to access foreign-licensed satellites on the “Permitted List.” The Order adopts a streamlined procedure for minor modifications of space station licenses in section 25.118(e) of the Commission's rules and it eliminates a licensing requirement for certain receive-only stations. The Commission's adoption of a streamlined procedure for minor modifications of space station licenses expedites the grant of applications that do not involve increase interference potential and facilitates service to the public. Under this new streamlined procedure, a space station operator may modify its license without prior authorization, but upon 30 days prior notice to the Commission and any potentially affected licensed spectrum user, provided that the operator meets the certain technical requirements. The Commission uses this information to determine the technical, legal and financial qualifications of applicants or licensees to operate a station, transfer or assign a license, and to determine whether the authorization is in the public interest, convenience and necessity.

OMB Control No.: 3060-1022.

Title: Section 101.1403, Broadcast Carriage Requirements.

Form No.: N/A.

Type of Review: Revision of a currently approved collection.

Respondents: Business or other for-profit.

Number of Respondents: 214.

Estimated Time Per Response: 1 hour.

Frequency of Response: On occasion reporting requirement, and third party disclosure requirement.

Total Annual Burden: 214 hours.

Total Annual Cost: N/A.

Needs and Uses: On July 7, 2003, the FCC released a Third Report and Order in ET Docket No. 98-206, FCC 03-152, which requires Multichannel Video Distribution and Data Service (MVDDS) respondents that meet the statutory definition of Multiple Video Programming Distributor (MVPD) to comply with the broadcast carriage requirements located at 47 U.S.C. 325(b)(1). Any MVDDS licensee that is an MVPD must obtain the prior express authority of a broadcast station before retransmitting that station's signal, subject to the exceptions contained in Section 325(b)(2) of the Communications Act of 1934, as amended. Additionally, the Commission decided to change from the original Component Economic Areas (CEAs) to Designated Market Areas (DMAs) to allow for advanced wireless services.

OMB Control No.: 3060-1023.

Title: Section 101.103, Frequency Coordination Procedures.

Form No.: N/A.

Type of Review: Revision of a currently approved collection.

Respondents: Business or other for-profit.

Number of Respondents: 214.

Estimated Time Per Response: .50 hours.

Frequency of Response: On occasion reporting requirement, and third party disclosure requirement.

Total Annual Burden: 107 hours.

Total Annual Cost: N/A.

Needs and Uses: On July 7, 2003, the FCC released a Third Report and Order in ET Docket No. 98-206, FCC 03-152, which requires Multichannel Video Distribution and Data Service (MVDDS) licensees to provide notice of intent to construct a proposed antenna to NGSO FSS licensing operating in the 12.2-12.7 GHz frequency band and to maintain an Internet web site of all existing transmitting sites and transmitting antennas that are scheduled for operation within one year including the “in service” dates. Additionally, the Commission decided to change from the original Component Economic Areas (CEAs) to Designated Market Areas (DMAs) to allow for advanced wireless services.

OMB Control No.: 3060-1024.

Title: Section 101.1413, License Term and Renewal Expectancy; Section 101.1421, Coordination of Adjacent Area MVDDS Stations and Incumbent Public Safety POFS Stations.

Form No.: N/A.

Type of Review: Revision of a currently approved collection.

Respondents: Business or other for-profit.

Number of Respondents: 214.

Estimated Time Per Response: .50 hours.

Frequency of Response: On occasion reporting and 10 year reporting requirements, and third party disclosure requirement.

Total Annual Burden: 107 hours.

Total Annual Cost: $8,900.

Needs and Uses: On July 7, 2003, the FCC released a Third Report and Order in ET Docket No. 98-206, FCC 03-152, which requires Multichannel Video Distribution and Data Service (MVDDS) renewal applicants to comply with the requirements to provide substantial service by the end of the ten year initial license term. Additionally, the Commission decided to change from the original Component Economic Areas (CEAs) to Designated Market Areas (DMAs) to allow for advanced wireless services.

OMB Control No.: 3060-1025.

Title: Section 101.1440, MVDDS Protection of Direct Broadcast Satellites (DBS).

Form No.: N/A.

Type of Review: Revision of a currently approved collection.

Respondents: Business or other for-profit.

Number of Respondents: 214.

Estimated Time Per Response: 40 hours.

Frequency of Response: On occasion reporting requirement, and third party disclosure requirement.

Total Annual Burden: 8,560 hours.

Total Annual Cost: N/A.

Needs and Uses: On July 7, 2003, the FCC released a Third Report and Order in ET Docket No. 98-206, FCC 03-152, which requires Multichannel Video Distribution and Data Service (MVDDS) licensees to conduct a survey of the area around its proposed transmitting antenna site to determine the location of all DBS customers that may potentially be effected by the introduction of its MVDDS service. The MO&O and Second Report and Order will ensure that MVDDS signal will not be in excess of the appropriate Equivalent Power Flux Density (EPFD) limits as written in 47 CFR 101.105(a)(4)(ii)(B) is causing interference to DBS customers. If the MVDDS licensee determines that its signal level will exceed the EPFD limit at any DBS customer site, it shall take whatever steps are necessary, up to and including finding a new transmission site. Additionally, the Commission decided to change from the original Component Economic Areas (CEAs) to Designated Market Areas (DMAs) to allow for advanced wireless services.

OMB Control No.: 3060-1026.

Title: Section 101.1417, Annual Report.

Form No.: N/A.

Type of Review: Revision of a currently approved collection.

Respondents: Business or other for-profit.

Number of Respondents: 214.

Estimated Time Per Response: 1 hour.

Frequency of Response: Annual reporting requirement.

Total Annual Burden: 214 hours.

Total Annual Cost: N/A.

Needs and Uses: On July 7, 2003, the FCC released a Third Report and Order in ET Docket No. 98-206, FCC 03-152, which requires Multichannel Video Distribution and Data Service (MVDDS) licensees to file two copies of a “licensee information report” by March 1st of each year with the Commission, for the preceding calendar year. This report must include the name and address of the licensee, station(s) call letters and primary geographic service area(s), and statistical data for the licensee's station(s). This report enables the Commission to keep track of the number of MVDDS licensee stations. Additionally, the Commission decided to change from the original Component Economic Areas (CEAs) to Designated Market Areas (DMAs) to allow for advanced wireless services.

Federal Communications Commission.
William F. Caton,
Deputy Secretary.

[FR Doc. 03-22174 Filed 8-28-03; 8:45 am]

BILLING CODE 6712-01-P